PEACE CORPS

Privacy Act of 1974; Systems of Records

AGENCY: Peace Corps.

ACTION: Notice of establishment of new system of records.

SUMMARY: Pursuant to the Privacy Act of 1974, the Peace Corps is issuing public notice of its proposal to add a new system of records. This notice provides information required under the Privacy Act on the new systems of records.

DATES: Comments must be received by August 25, 2004. The new system of records will be effective July 26, 2004, unless the Peace Corps receives comments that require a different determination.

ADDRESSES: Written comments should be addressed to Emilie Deady, Office of Medical Services, Peace Corps, 1111 20th Street, NW., Washington, DC 20526. Comments may also be sent electronically to the following e-mail address: edeady@peacecorps.gov. Written comments should refer to Privacy Act Systems of Records Notices, and if sent electronically, should contain this reference on the subject line.

FOR FURTHER INFORMATION CONTACT: Emilie Deady, Deputy Director, Office of Medical Services, Peace Corps, 1111 20th Street, NW., Washington, DC 20526, 202-692-1500.

SUPPLEMENTARY INFORMATION: Title 5 U.S.C. 552a(e)(4) and (11) provide that the public be given a 30-day period in which to comment on routine uses of information in each system of records. The Office of Management and Budget (OMB), which has oversight responsibility under the Act, requires a 40-day period in which to review modifications to an agency's systems of records. The public, OMB, and Congress are invited to comment on the new system of records. The new system of records is PC-26—Antimalaria Tolerance Survey

Routine Uses. The Agency's General Routine Uses Applicable to More than One System of Records are published in 65 FR 53773 to 53774, September 5, 2000.

System Notices.

PC-26

SYSTEM NAME:

Antimalaria Tolerance Survey.

SYSTEM LOCATION:

Office of Medical Services, Peace Corps, 1111 20th St., NW., Washington, DC 20526.

CATEGORIES OF INDIVIDUALS COVERED BY THE SYSTEM:

Peace Corps Volunteers (PCVs) who serve in areas with widespread chloroquine-resistant P. falciparum (CRPF) malaria.

CATEGORIES OF RECORDS IN THE SYSTEM:

Personal identifiers, geographical region and country, names of medications, possible side effects from medication, and behavioral activities.

AUTHORITY FOR MAINTENANCE OF THE SYSTEM:

The Peace Corps Act, 22 U.S.C. 2501 et seq.

PURPOSE:

To study and better understand the factors that influence antimalarial medication compliance. These records will be used by the staff of the Surveillance and Epidemiology Unit of the Office of Medical Services to collect, analyze and evaluate data from the surveys to determine the effectiveness of in-country health care.

ROUTINE USES OF RECORDS MAINTAINED IN THE SYSTEM, INCLUDING CATEGORIES OF USERS AND THE PURPOSES OF SUCH USES:

General routine uses E, F, G, and H apply to this system.

RECORDS MAY ALSO BE DISCLOSED TO:

1. The data from the surveys may be disclosed to the Centers for Disease Control and Prevention (CDC).

2. Data in aggregate form may be disclosed to the Department of State and the Department of Defense.

POLICIES AND PRACTICES FOR STORING, RETRIEVING, ACCESSING, RETAINING, AND DISPOSING OF RECORDS IN THE SYSTEM:

STORAGE:

On paper and in a computerized database.

RETRIEVABILITY:

By personal identifier, assigned country, type of medication, side effects, behavioral activity types.

SAFEGUARDS:

Paper records are maintained in a lockable cabinet. Computer records are maintained in a secure, password-protected computer system. All records are maintained in secure, access-controlled areas or buildings.

RETENTION AND DISPOSAL:

The records will be maintained for three years after completion of the study. The records will be destroyed in accordance with the Peace Corps records management policy.

SYSTEM MANAGER(S) AND ADDRESS:

Director, Office of Medical Services, Peace Corps, 1111 20th Street, NW, Washington, DC 20526.

NOTIFICATION, ACCESS, AND CONTESTING RECORD PROCEDURES:

Any individual who wants to know whether this system of records contains a record about him or her, who wants access to his or her record, or who wants to contest the contents of a record, should make a written request to the System Manager. Requesters will be required to provide adequate identification, such as a driver's license, employee identification card, or other identifying document. Additional identification may be required in some instances. Requests for correction or amendment must identify the record to be changed and the corrective action sought. Complete Peace Corps Privacy Act procedures are set out in 22 CFR part 308.

RECORD SOURCE CATEGORIES:

Record subject.

Dated: July 8, 2004.
Tyler S. Posey,
General Counsel.

[FR Doc. 04-16026 Filed 7-15-04; 8:45 am]

BILLING CODE 6015-01-P